DEPARTMENT OF HEALTH AND HUMAN SERVICES

National Institutes of Health

Clinical Center; Notice of Closed Meeting

Pursuant to section 10(d) of the Federal Advisory Committee Act, as amended (5 U.S.C. App.), notice is hereby given of a meeting of the Board of Scientific Counselors of the NIH Clinical Center.

The meeting will be closed to the public as indicated below in accordance with the provisions set forth in section 552b(c)(6), Title 5 U.S.C., as amended for the review, discussion, and evaluation of individual intramural programs and projects conducted by the CLINICAL CENTER, including consideration of personnel qualifications and performance, and the competence of individual investigators, the disclosure of which would constitute a clearly unwarranted invasion of personal privacy.

Name of Committee: Board of Scientific Counselors of the NIH Clinical Center.

Date: January 5-6, 2015.

Time: 8:00 a.m. to 4:45 p.m.; 8:00 a.m. to 11:45 a.m.

Agenda: To review and evaluate the Bioethics Department.

Place: National Institutes of Health, Building 10, 4-2551, 10 Center Drive, Bethesda, MD 20892.

Contact Person: Mary Sparks, Nurse Consultant for the Deputy Director for Clinical Care, Office of the Deputy Director, Clinical Center, National Institutes of Health, Building 10, Room 6-3521, Bethesda, MD 20892, (301) 496-3515.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Dated: December 1, 2014.
Michelle Trout,
Program Analyst, Office of Federal Advisory Committee Policy.

[FR Doc. 2014-28527 Filed 12-4-14; 8:45 am]

BILLING CODE 4140-01-P